ENVIRONMENTAL PROTECTION AGENCY

40 CFR Part 52

[EPA-R05-OAR-2022-0352; EPA-R05-OAR-2023-0093; FRL-9995-01-R5]

Air Plan Approval; Ohio; 2015 Ozone Moderate Reasonably Available Control Technology SIP

AGENCY: Environmental Protection Agency (EPA).

ACTION: Proposed rule.

SUMMARY: The Environmental Protection Agency (EPA) is proposing to approve revisions to Ohio Administrative Code (OAC) Chapters 3745-21 and 3745-110 into the Ohio State Implementation Plan (SIP). The Ohio Environmental Protection Agency (“Ohio” or “Ohio EPA”) submitted these revisions on March 30, 2022, and supplemented the submittal on February 1, 2023, and August 28, 2023. EPA is proposing to approve parts of OAC Chapters 3745-21 and 3745-110 as satisfying some of the Moderate Volatile Organic Compound (VOC) Reasonably Available Control Technology (RACT) and Nitrogen Oxide (NOx) RACT requirements for the Cleveland, OH nonattainment area (Cuyahoga, Geauga, Lake, Lorain, Medina, Portage, and Summit counties) under the 2015 ozone National Ambient Air Quality Standard (“NAAQS” or “standard”). Finally, EPA is proposing to approve OAC rule 3745-15-03, submitted by Ohio on February 9, 2023, and supplemented on December 1, 2023, and December 30, 2024.

DATES: Comments must be received on or before September 29, 2025.

ADDRESSES: Submit your comments, identified by Docket ID No. EPA-R05-OAR-2022-0352 and EPA-R05-OAR-2023-0093 at https://www.regulations.gov, or via email to arra.sarah@epa.gov. For comments submitted at Regulations.gov, follow the online instructions for submitting comments. Once submitted, comments cannot be edited or removed from the docket. EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, please contact the person identified in the FOR FURTHER INFORMATION CONTACT section. For the full EPA public comment policy, information about CBI, PBI, or multimedia submissions, and general guidance on making effective comments, please visit https://www.epa.gov/dockets/commenting-epa-dockets.

FOR FURTHER INFORMATION CONTACT: Katie Mullen, Air and Radiation Division (AR-18J), Environmental Protection Agency, Region 5, 77 West Jackson Boulevard, Chicago, Illinois 60604, (312) 353-3490, mullen.kathleen@epa.gov. The EPA Region 5 office is open from 8:30 a.m. to 4:30 p.m., Monday through Friday, excluding Federal holidays.

SUPPLEMENTARY INFORMATION: Throughout this document whenever “we,” “us,” or “our” is used, we mean EPA.

I. What is EPA proposing?

EPA is proposing to approve parts of OAC Chapters 3745-21 and 3745-110 as satisfying some of the Moderate VOC RACT requirements of 182(b)(2) and NOX RACT requirements of 182(f) of the Clean Air Act (CAA), respectively, for the Cleveland, OH nonattainment area under the 2015 ozone standard. EPA is also proposing to approve OAC 3745-21-11 and 3745-110-03(J) as SIP strengthening measures for the Cleveland nonattainment area. EPA is proposing to approve OAC Chapter 3745-21 and 3745-110-03(J) as SIP strengthening for Ashtabula County and the Ohio portion of the Cincinnati, OH-KY maintenance area (Butler, Clermont, Hamilton, and Warren counties) under the 2015 ozone standard. Ohio submitted these SIP revisions to the EPA on March 30, 2022, and supplemented the submittal on February 1, 2023, and August 28, 2023. Finally, EPA is proposing to approve OAC rule 3745-15-03, submitted as part of Ohio's SIP revision on February 9, 2023, and supplemented on December 1, 2023, and December 30, 2024.

II. What is the background for this action?

VOCs and NOX contribute to the production of ground-level ozone, or smog, which harms human health and the environment. EPA defines RACT as the lowest emission limit that a particular source is capable of meeting by the application of control technology that is reasonably available considering technological and economic feasibility. Sections 182(b)(2) and 182(f) of the CAA require States to implement RACT in ozone nonattainment areas classified as Moderate (and higher). Specifically, these areas are required to implement RACT for all major sources of VOC and NOX and for all VOC sources covered by a Control Techniques Guideline (CTG). A CTG provides recommendations to inform State, local, and tribal air agencies as to what constitutes RACT for categories of VOC sources. Air agencies can use the recommendations in the CTG to inform their own determination as to what constitutes RACT. If there are no sources covered by a certain CTG within a nonattainment area, a State may submit a negative declaration in place of regulatory requirements to apply RACT for that category of sources.

EPA's SIP Requirements Rule for the 2008 ozone NAAQS indicates that States may meet RACT through the establishment of new or more stringent requirements that meet RACT control levels, through a certification that previously adopted RACT controls for a prior ozone NAAQS continue to represent adequate RACT control levels for the 2008 ozone NAAQS, or with a combination of these two approaches. See 80 FR 12264, 12278-79 (March 6, 2015). As previously stated, a State may submit a negative declaration in instances where there are no sources covered by a particular CTG. EPA's SIP Requirements Rule for the 2015 ozone NAAQS retains the existing general 2008 RACT requirements for purposes of the 2015 ozone NAAQS. See 83 FR 63007 (December 6, 2018).

On June 4, 2018 (83 FR 25776), EPA designated the Cleveland, OH nonattainment area and the Ohio portion of the Cincinnati, OH-KY nonattainment area as Marginal nonattainment areas for the 2015 ozone NAAQS. The Cleveland, OH nonattainment area consists of Cuyahoga, Geauga, Lake, Lorain, Medina, Portage, and Summit counties. The Ohio portion of the Cincinnati, OH-KY nonattainment area consists of Butler, Clermont, Hamilton, and Warren counties. EPA also designated Ashtabula County as attainment/unclassifiable for the 2015 ozone NAAQS.¹ On April 13, 2022 (87 FR 21849), pursuant to section 181(b)(2) of the CAA, EPA proposed to determine that the Cleveland, OH nonattainment area failed to attain the 2015 ozone NAAQS by the August 3, 2021, Marginal area attainment deadline and thus proposed to reclassify the area from Marginal to Moderate nonattainment. In that action, EPA proposed to establish January 1, 2023, as the due date for the State to submit all Moderate area nonattainment plan SIP requirements applicable to newly reclassified areas. The Ohio portion of the Cincinnati OH-KY 2015 ozone nonattainment area attained the 2015 ozone standard based on the 2019-2021 design value, and the area was redesignated to attainment effective June 9, 2022 (87 FR 35104). This action addresses the Moderate area VOC and NOX RACT SIP submissions for the Cleveland nonattainment area under the 2015 ozone standard. Also, this action addresses VOC SIP strengthening measures for Ashtabula County and the Ohio portion of the Cincinnati maintenance area under the 2015 ozone standard.

¹ While Ashtabula County was designated as attainment/unclassifiable under the 2015 ozone NAAQS, it was designated nonattainment as part of the Cleveland area under previous ozone standards. Approval of revisions to OAC 3745-21 will not relax VOC RACT provisions applicable to Ashtabula County under previous ozone standards.

III. What is EPA's evaluation of Ohio's VOC and NOX RACT submittal?

EPA has previously determined that Chapter 3745-21 VOC regulations have met RACT for requirements associated with past ozone NAAQS and incorporated them into the Ohio SIP. See actions dated September 8, 2017 (82 FR 42451), September 30, 2020 (85 FR 68758), and March 23, 1995 (60 FR 15235). For certain source categories, Ohio is certifying the previously adopted RACT regulations and controls contained in OAC Chapter 3745-21 for VOCs continue to satisfy RACT requirements under the 2015 ozone NAAQS. Ohio has also adopted new or more stringent RACT regulations in OAC Chapter 3745-21 for VOCs and in OAC Chapter 3745-110 for NOX. The revisions to OAC Chapter 3745-21 VOC regulations apply to both the Cleveland, OH nonattainment area and the Ohio portion of the Cincinnati OH-KY maintenance area under the 2015 ozone NAAQS, and to Ashtabula County. The new OAC Chapter 3745-110 NOX regulations apply only to the Cleveland, OH 2015 ozone nonattainment area.

A. Certifying Existing Sections of OAC Chapter 3745-21 as VOC RACT for Cleveland

EPA approved OAC Chapter 3745-21 into Ohio's SIP under previous ozone standards. EPA performed a RACT due diligence analysis which can be found in the technical support document (TSD) ² and is described in detail in section III, subsection H of this preamble. EPA has not identified any new control technologies that are reasonably available considering technological and economic feasibility for these sources since our last approval, and therefore EPA is proposing to determine that the controls for the CTG categories below still represent RACT for implementing the 2015 ozone standard in the Cleveland, OH nonattainment area. Also, EPA is also proposing to determine that the rules below are newly approved as SIP strengthening for Ashtabula County and the Cincinnati 2015 ozone NAAQS maintenance area:

² Available in the docket for this action.

• OAC 3745-21-09(D) for cans; (E) for coils; (F) for paper; (G) for fabrics; (H) vinyl; (C) for automobiles and light-duty trucks, Surface Coating of Cans, Coils, Paper, Fabrics, Automobiles, and Light-duty trucks

• OAC 3745-21-09(F)(2), Paper, Film and Foil Coatings

• OAC 3745-21-09(I), Surface Coating of Metal Furniture

• OAC 3745-21-09(I)(4), Surface Coating of Metal Furniture

• OAC 3745-21-09(J), Surface Coating of Insulation of Magnet Wire

• OAC 3745-21-09(K), Surface Coating of Large Appliances

• OAC 3745-21-09(K)(6), Surface Coating of Large Appliances

• OAC 3745-21-09(L), Storage of Petroleum Liquids in Fixed-Roof Tanks

• OAC 3745-21-09(M), Refinery Vacuum Producing Systems, Wastewater Separators, and Process Unit Turnarounds

• OAC 3745-21-09(N), Use of Cutback Asphalt

• OAC 3745-21-09(O)(2)(a) to (O)(2)(d), (O)(3) to (O)(6), Solvent Metal Cleaning

• OAC 3745-21-09(P), Bulk Gasoline Plants

• OAC 3745-21-09(Q), Tank Truck Gasoline Loading Terminals

• OAC 3745-21-09(R), Stage I Vapor Control Systems

• OAC 3745-21-09(T), Leaks from Petroleum Refinery Equipment

• OAC 3745-21-09(V), Leaks from Gasoline Tank Trucks and Vapor Collection

• OAC 3745-21-09(W), Manufacture of Synthesized Pharmaceutical Products

• OAC 3745-21-09(X), Manufacture of Pneumatic Rubber Tires

• OAC 3745-21-09(Y), Graphic Arts-Rotogravure and Flexography

• OAC 3745-21-09(Y)(4), Flexographic, Packaging Rotogravure and Publication Rotogravure Printing Lines

• OAC 3745-21-09(Z), Petroleum Liquid Storage in External Floating Roof Tanks

• OAC 3745-21-09(AA), Perchloroethylene Dry Cleaning Systems

• OAC 3745-21-09(BB), Large Petroleum Dry Cleaners

• OAC 3745-21-09(DD), Leaks from Synthetic Organic Chemical Polymer and Resin Manufacturing Equipment

• OAC 3745-21-09(EE), Air Oxidation Processes in Synthetic Organic Chemical Manufacturing Industry

• OAC 3745-21-13, Reactor Processes and Distillation Operations in Synthetic Organic Chemical Manufacturing Industry

• OAC 3745-21-15, Wood Furniture Manufacturing Operations

• OAC 3745-21-19, Control of Volatile Organic Compound Emissions from Aerospace Manufacturing and Rework Facilities

• OAC 3745-21-20, Control of Volatile Organic Emissions from Shipbuilding and Ship Repair Operations (Marine Coatings)

• OAC 3745-21-21, Storage of Volatile Organic Liquids in Fixed Roof Tanks and External Floating Roof Tanks

• OAC 3745-21-22, Control of Volatile Organic Compound Emissions from Offset Lithographic Printing and Letterpress Printing Facilities

• OAC 3745-21-23, Control of Volatile Organic Compound Emissions from Industrial Solvent Cleaning Operations

• OAC 3745-21-24, Flat Wood Paneling Coatings

• OAC 3745-21-26, Surface Coating of Miscellaneous Metal and Plastic Parts

• OAC 3745-21-27, Boat Manufacturing

• OAC 3745-21-28, Miscellaneous Industrial Adhesives and Sealants

• OAC 3745-21-29, Control of Volatile Organic Compound Emissions from Automobile and Light-duty Truck Assembly Coating Operations, Heavier Vehicle Assembly Coating Operations and Cleaning Operations Associated with These Coating Operations

B. Minor Revisions to Existing VOC RACT Regulations in OAC Chapter 3745-21

Ohio's SIP submittal included minor revisions to OAC Chapter 3745-21 for clarification and agency and State formatting protocols. The minor revisions are included in the following sections: 3745-21-01, 3745-21-04, 3745-21-07, 3745-21-09, 3745-21-10, 3745-21-15, and 3745-21-18. EPA is proposing to approve the minor revisions to OAC Chapter 3745-21 because the revisions are non-substantive minor edits that do not alter the meaning or legal effect of these rules.

C. Permits for Two Sources Within the Categories Covered by the Oil and Natural Gas Industry CTG in the Cleveland, OH Nonattainment Area

Ohio identified only two sources that fall into the categories covered by the 2016 CTG for the Oil and Natural Gas Industry located in the Cleveland, OH nonattainment area. Rather than adopt categorical rules for sources falling into categories covered by the 2016 oil and gas CTG, Ohio requested that EPA approve specific portions of source specific federally enforceable permits for these two facilities—Wylie Compressor Station and Smallwood facility—for incorporation into the Ohio SIP. EPA is proposing to approve these specific portions of these permits for incorporation into the SIP to fulfill RACT requirements for the Cleveland nonattainment area for the category of sources covered by the Oil and Gas CTG.

The Wylie Compressor Station is a portable reciprocating natural gas compressor driven by a 68 hp natural gas fired compressor engine, emissions unit (EU) P001. EPA is proposing to approve sections C.1.b)(1)e., C.1.b)(2)a., C.1.c)(2), C.1.d)(2) and C.1.e)(4) of the Wylie Compressor Station construction permit for incorporation into the SIP as satisfying the Moderate area RACT requirement resulting from the 2016 Oil and Natural Gas CTG in the Cleveland, OH Nonattainment area under the 2015 ozone standard. Please see more details on these sections below:

• C.1.b)(1)e—references that the control requirements located in C.1.c)(2) apply to reciprocating compressors located between the wellhead and point of custody transfer to the natural gas transmission and storage segment. Also, this section references that additional terms and conditions related to RACT can be found in C.1.b)(2)a.

• C.1.b)(2)a.—Because the compressor is portable, language has been added to clarify that the requirements only apply when the EU is installed and operating in a Moderate nonattainment area for the 2015 ozone NAAQS.

• C.1.c)(2) contains operational restrictions to reduce VOC emissions by replacing reciprocating compressor rod packing on or before 26,000 hours of operation or every 36 months. EPA proposes to determine that these operational restrictions are RACT levels of control. See EPA's TSD and subsection H of section III of this preamble for more information on EPA's analysis.

• C.1.d)(2) contains the monitoring and recordkeeping requirements for this EU and C.1.e)(4) contains requirements for submitting annual reports for this EU.

The Smallwood facility is a portable reciprocating natural gas compressor driven by a 145 hp natural gas fired engine, EU P001. EPA is proposing to approve sections C.1.b)(1)e., C.1.b)(2)b., C.1.c)(3), C.1.d)(7) and C.1.e)(5) of the Smallwood facility construction permit for incorporation into the SIP as satisfying the Moderate area RACT requirement resulting from the 2016 Oil and Natural Gas CTG in the Cleveland, OH Nonattainment area under the 2015 ozone standard. Please see more details on these sections below:

• C.1.b)(1)e—references that the control requirements located in C.1.c)(3) apply to reciprocating compressors located between the wellhead and point of custody transfer to the natural gas transmission and storage segment. Also, this section references that additional terms and conditions related to RACT can be found in C.1.b)(2)b.

• C.1.b)(2)b.—Because the compressor is portable, language has been added to clarify that the requirements only apply when the EU is installed and operating in a Moderate nonattainment area for the 2015 ozone NAAQS.

• C.1.c)(3) contains operational restrictions to reduce VOC emissions by replacing reciprocating compressor rod packing on or before 26,000 hours of operation or 36 months. EPA proposes to determine that these operational restrictions are RACT levels of control. See EPA's TSD and subsection H of section III of this preamble for more information on EPA's analysis.

• C.1.d)(7) contains the monitoring and recordkeeping requirements for this EU and C.1.e)(5) contains requirements for submitting annual reports for this EU.

D. Negative Declarations

Ohio provided Negative Declarations for the following CTG categories: “Manufacturing of High-Density Polyethylene and Polypropylene Resin” and “VOC Equipment Leaks from Natural Gas/Gasoline Processing Plants.” Ohio performed searches for facilities meeting each of these CTG categories in the Cleveland, OH nonattainment area for the 2015 ozone standard. Ohio determined that there are no sources subject to either of these CTGs in the Cleveland, OH nonattainment area.

E. Non-CTG VOC Major Source RACT

Major non-CTG VOC sources, which are subject to RACT, are stationary sources that have the potential to emit (PTE) at least 100 TPY of VOCs in Moderate ozone nonattainment areas and are not covered by the applicability criteria in the CTGs. Many major non-CTG VOC sources located in the ozone nonattainment area are subject to categorical RACT rules. Currently, Ohio's VOC RACT rules establish non-CTG RACT for the following five source categories. These rules were developed based upon the EPA's Alternative Control Techniques (ACT) documents or Maximum Available Control Technology (MACT) standards:

• OAC 3745-21-12, Control of Volatile Organic Compound Emissions from Commercial Bakery Oven Facilities

• OAC 3745-21-14, Control of Volatile Organic Compound Emissions from Process Vents in Batch Operations

• OAC 3745-21-16, Control of Volatile Organic Compound Emissions from Industrial Wastewater

• OAC 3745-21-21, Storage of Volatile Organic Liquids in Fixed Roof Tanks and External Floating Roof Tanks

• OAC 3745-21-25, Control of Volatile Organic Compound Emissions from Reinforced Plastic Composites Production Operations

In EPA's due diligence analysis, which can be found in the TSD, EPA compares Ohio's non-CTG categorical RACT rules to other relevant State rules and ACTs. EPA found Ohio's rules to be consistent with similar non-CTG categorical rules adopted by other States and with the relevant ACTs. EPA has not identified any new control technologies that are reasonably available considering technological and economic feasibility for these sources. As a result of EPA's due diligence analysis, EPA is proposing to determine that these non-CTG VOC RACT regulations are still representative of RACT for the Cleveland, OH nonattainment area for purposes of the 2015 ozone standard. See more about the due diligence process in section III, subsection H of this preamble.

F. OAC 3745-21-11 and 3745-110-03(J) VOC and NOX RACT Studies for Non-CTG Sources

OAC rules 3745-21-11 and 3745-110-03(J) require VOC and NOX major non-CTG sources that are not regulated under other Ohio RACT rules to submit RACT studies within one year of the effective date of Ohio's rule. Ohio will then submit the source specific RACT plans with enforceable measures to EPA for review and approval into the Ohio SIP. Because these rules do not establish any control standards for these sources, they do not establish RACT level controls, as required, for these sources. Therefore, Ohio has not yet established all RACT level controls as required across the Cleveland, OH nonattainment area. However, EPA is proposing to approve OAC rules 3745-21-11 and 3745-110-03(J) as SIP strengthening for the Cleveland, OH nonattainment area, Ashtabula County, and for the Ohio portion of the Cincinnati, OH-KY maintenance areas under the 2015 ozone standard. If Ohio later submits specific RACT plans for individual sources as SIP revisions, EPA will evaluate those SIP submissions to determine whether they comprise RACT-level controls for the relevant sources.

G. OAC 3745-110

OAC 3745-110 has not been previously submitted or approved into Ohio's SIP. On December 11, 2007, Ohio promulgated NOX RACT emission standards for various sizes of boilers, stationary combustion turbines, and stationary internal combustion engines, which are contained in OAC Chapter 3745-110. NOX RACT emission standards for reheat furnaces were later promulgated on July 18, 2013.

Ohio EPA evaluated other States' recent RACT regulations and analyzed emissions and operational profiles of combustion units at major source facilities in Ohio to determine RACT requirements for these categories. These regulations establish NOX RACT for very large, large, mid-size, and small boilers, stationary combustion turbines, stationary internal combustion engines, and reheat furnaces. EPA is proposing to approve the following sections of OAC Chapter 3745-110 as meeting the NOX RACT requirement for the Cleveland nonattainment area under the 2015 ozone standard into the Ohio SIP: 3745-110-01, 3745-110-02, 3745-110-03 except paragraph J, 3745-110-04, and 3745-110-05. In EPA's due diligence analysis, EPA compares Ohio's NOX RACT rules to other relevant State rules and ACTs. EPA found Ohio's rules to be in some cases more stringent than other States' NOX RACT rules and consistent with the ACTs. EPA has not identified any new control technologies that are reasonably available considering technological and economic feasibility for these sources. See EPA's TSD and section III, subsection H of this preamble for more information on EPA's due diligence analysis.

H. RACT Due Diligence

As part of its March 30, 2022, submittal, Ohio certified that the RACT requirements for CTG and non-CTG VOC and NOX sources in the Cleveland 2015 ozone Moderate nonattainment area have been fulfilled. Ohio conducted its RACT analysis for VOC and NOX by: (1) Identifying all categories of CTG and major non-CTG sources of VOC and NOX emissions within the Cleveland nonattainment area; (2) Listing the Ohio State regulation that implements or exceeds RACT requirements for that CTG or non-CTG category; and (3) Submitting negative declarations when there are no CTG applicable sources within the Cleveland area.

EPA performed a due diligence analysis to validate Ohio's VOC and NOX RACT submittal for the Cleveland nonattainment area under the 2015 ozone standard. In EPA's TSD (available in the docket), EPA details the basis for concluding that Ohio's regulations fulfill RACT through comparison with RACT rules developed by other States, CTG guidance documents and applicable ACT documents. EPA evaluated the relevant RACT rules in various States including Region 5 States (Illinois, Michigan, Indiana, Wisconsin) and States in Regions 1, 2, 6, 8, and 9 (Maine, Vermont, California, Colorado, Texas, Arizona, New Jersey, Connecticut, and New York). EPA found Ohio's rules to be generally consistent with or more stringent than control measures in other States' regulations, CTGs, and ACTs. EPA has not identified any new control technologies that are reasonably available considering technological and economic feasibility for these sources. Based upon our findings, EPA proposes to determine that Ohio's rules continue to represent RACT.

EPA is also proposing to approve Ohio's VOC and NOX RACT regulations as SIP strengthening for the Cincinnati 2015 ozone NAAQS maintenance area and Ashtabula County.

I. OAC Rule 3745-15-03 Submission of Emission Information

EPA is also proposing to approve OAC rule 3745-15-03, which sets forth reporting requirements for sources in Ohio through the construction permit program. OAC rule 3745-15-03 applies to all VOC and NOX sources subject to RACT that are covered by this proposed rule, and therefore ensures that these sources are subject to periodic reporting requirements. Approval of this rule is consistent with the requirements of CAA section 110(l) because it strengthens Ohio's SIP by providing for enforceability of the RACT requirements.

IV. What action is EPA taking?

EPA is proposing to approve parts of OAC Chapters 3745-21 as satisfying some of the Moderate VOC RACT requirements of 182(b)(2) of the CAA for the Cleveland, OH nonattainment area under the 2015 ozone standard. EPA is also proposing to approve parts of OAC Chapter 3745-110 as satisfying some of the Moderate NOX RACT requirements of 182(f) of the CAA for the Cleveland, OH nonattainment area under the 2015 ozone standard. EPA is also proposing to approve OAC 3745-21-11 and 3745-110-03(J) as SIP strengthening measures for the Cleveland, OH nonattainment area under the 2015 ozone standard. EPA is proposing to approve OAC Chapter 3745-21 and 3745-110-03(J) as SIP strengthening for Ashtabula County and the Ohio portion of the Cincinnati, OH-KY maintenance area under the 2015 ozone standard. Ohio submitted these SIP revisions to the EPA on March 30, 2022, and supplemented the submittal on February 1, 2023, and August 28, 2023. Finally, EPA is proposing to approve OAC rule 3745-15-03, submitted as part of Ohio's SIP revision on February 9, 2023, and supplemented on December 1, 2023 and December 30, 2024.

V. Incorporation by Reference

In this rule, EPA is proposing to include in a final EPA rule regulatory text that includes incorporation by reference. In accordance with requirements of 1 CFR 51.5, EPA is proposing to incorporate by reference Ohio Administrative Code Chapters 3745-21, effective on March 27, 2022, and 3745-110, effective on March 25, 2022, sections C.1.b)(1)e., C.1.b)(2)a., C.1.c)(2), C.1.d)(2) and C.1.e)(4) of the Wylie Compressor Station construction permit and sections C.1.b)(1)e., C.1.b)(2)b., C.1.c)(3), C.1.d)(7) and C.1.e)(5) of the Smallwood facility construction permit, discussed in section III of this preamble. EPA has made, and will continue to make, these documents generally available through www.regulations.gov and at the EPA Region 5 Office (please contact the person identified in the FOR FURTHER INFORMATION CONTACT section of this preamble for more information).

VI. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve State choices, provided that they meet the criteria of the Clean Air Act. Accordingly, this action merely approves State law as meeting Federal requirements and does not impose additional requirements beyond those imposed by State law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where EPA or an Indian Tribe has demonstrated that a Tribe has jurisdiction. In those areas of Indian country, the rulemaking does not have Tribal implications and will not impose substantial direct costs on Tribal governments or preempt Tribal law as specified by Executive Order 13175 (65 FR 67249, November 9, 2000).

List of Subjects in 40 CFR Part 52

Environmental protection, Air pollution control, Incorporation by reference, Intergovernmental relations, Nitrogen dioxide, Ozone, Volatile organic compounds.

Dated: August 18, 2025.
Cheryl Newton,
Acting Regional Administrator, Region 5.

[FR Doc. 2025-16484 Filed 8-27-25; 8:45 am]

BILLING CODE 6560-50-P